DEPARTMENT OF HEALTH AND HUMAN SERVICES

Centers for Disease Control and Prevention

[30DAY-13-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235, Washington, DC 20503. Written comments should be received within 30 days of this notice.

Proposed Project

Supplement to HIV/AIDS Surveillance (SHAS) Project—New—The National Center for HIV, STD and TB Prevention (NCHSTP). NCHSTP is proposing revisions to the currently-approved questionnaire for the Supplement to HIV/AIDS Surveillance (SHAS) project (OMB No. 0920-0262). This questionnaire provides detailed information about persons with HIV infection which continues to be of significant interest to public health, community, minority groups and affected groups. Since 1989, the CDC, in collaboration with 12 state and local health agencies, has collected data through the national Supplemental HIV/AIDS Surveillance project. The objective of this project is to obtain increased descriptive information on persons with newly-reported HIV and AIDS infections, including sociodemographic characteristics, risk behaviors, use of health care services, sexual and substance abuse behaviors, minority issues and adherence to therapy. The revised questionnaire will address important emerging surveillance and prevention issues, particularly those related to the recent advances in therapy for HIV infection. This information supplements routine, national HIV/AIDS surveillance and is used to improve CDC's understanding of minority issues related to the epidemic of HIV, target educational efforts to prevent transmission, and improve services for persons with HIV infection. The total annual burden hours are 3500.

Data for Calendar Year 1998
Respondents | No. of respondents | No. of responses/respondent | Avg. burden of response (in hrs.)
Georgia | 292 | 1 | .75
California | 301 | 1 | .75
Michigan | 82 | 1 | .75
New Mexico | 81 | 1 | .75
Arizona | 165 | 1 | .75
Colorado | 139 | 1 | .75
Connecticut | 229 | 1 | .75
Delaware | 43 | 1 | .75
Florida | 430 | 1 | .75
S. Carolina | 270 | 1 | .75
New Jersey | 86 | 1 | .75
Washington | 160 | 1 | .75

Dated: January 14, 2000.
Nancy Cheal, Ph.D.,
Acting Associate Director for Policy, Planning and Evaluation, Centers for Disease Control and Prevention (CDC).

[FR Doc. 00-1450 Filed 1-20-00; 8:45 am]

BILLING CODE 4163-18-P